DEPARTMENT OF THE INTERIOR

Bureau of Land Management

[CACA 048728, LLCAD06000, L51010000.LVRWB09B2510.FX0000]

Notice of Intent To Prepare a Joint Environmental Impact Statement and Environmental Impact Report for the Proposed McCoy Solar Energy Project and Possible Land Use Plan Amendment, Riverside County, CA

AGENCY: Bureau of Land Management, Interior.

ACTION: Notice of Intent.

SUMMARY: In compliance with the National Environmental Policy Act of 1969, as amended (NEPA), the Federal Land Policy and Management Act of 1976, as amended (FLPMA), and the California Environmental Quality Act, the Bureau of Land Management (BLM) Palm Springs/South Coast Field Office, Palm Springs, California, together with the County of Riverside, California, intend to prepare a joint Environmental Impact Statement (EIS)/Environmental Impact Report (EIR), which may include an amendment to the California Desert Conservation Area (CDCA) Plan (1980 as amended), related to McCoy Solar, LLC's right-of-way (ROW) application for the McCoy Solar Energy Project (MSEP), a 750-megawatt (MW) photovoltaic (PV) solar electricity generation project. By this notice, the BLM and Riverside County are announcing the beginning of the scoping process to solicit public comments and identify issues related to the EIS/EIR.

DATES: This notice initiates the public scoping process for the EIS/EIR and possible plan amendment. Comments on issues related to the EIS/EIR and possible plan amendment may be submitted in writing until September 28, 2011. The date(s) and location(s) of any scoping meetings will be announced at least 15 days in advance through local media, newspapers, and the BLM Web site at: http://www.blm.gov/ca/st/en/fo/cdd.html. In order to be fully addressed in the Draft EIS/EIR, all comments must be received prior to the close of the scoping period or 15 days after the last public meeting, whichever is later. We will provide additional opportunities for public participation upon publication of the Draft EIS/EIR.

ADDRESSES: You may submit comments on issues and alternatives related to the MSEP EIS/EIR and possible plan amendment by any of the following methods:

• Web site: http://www.blm.gov/ca/st/en/fo/cdd.html.

• E-mail: camccoysep@blm.gov.

• Fax: (951) 697-5299.

• Mail: ATTN: Jeffery Childers, Project Manager, BLM California Desert District Office, 22835 Calle San Juan de Los Lagos, Moreno Valley, California 92553-9046.

Documents pertinent to this proposal may be examined at the BLM California Desert District Office.

FOR FURTHER INFORMATION CONTACT: Jeffery Childers; telephone (951) 697-5308; address BLM California Desert District Office, 22835 Calle San Juan de Los Lagos, Moreno Valley, California 92553-9046; e-mail jchilders@blm.gov. Also contact Mr. Childers to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The applicant, McCoy Solar, LLC has requested a ROW authorization to construct, operate, maintain, and decommission an up to 750-MW PV solar facility and necessary ancillary facilities including a generation tie line, access road and switch yard with the ultimate generation capacity dependent on the technology selected and efficiencies available at the time of ROW authorization. The MSEP is proposed to be located on about 7,700 acres of public lands and 470 acres of private land under the land use authority of Riverside County. The facilities to be located on private land will be limited to solar arrays and inverters, as well as a portion of the access road, generation tie line, electric power distribution line, and a telecommunications line. The proposed 16-mile generation-tie line (gen-tie), with a right-of-way width of 100 feet, will require about 200 acres of public and private lands. The proposed 20-acre switch yard will be located adjacent to and connect into Southern California Edison's Colorado River Substation. The MSEP site is located approximately 13 miles northwest of the City of Blythe, California and approximately 32 miles east of Desert Center.

The BLM has segregated the public lands located within the MSEP application area from appropriation under the public land and mining laws, but not the mineral leasing or material sales acts, for a period of 2 years for the purpose of protecting potential sites for future solar energy development pursuant to 43 CFR 2091.3-1(e) and 43 CFR 2804.25(e) by notice in the Federal Register [76 FR 38416] on June 30, 2011.

The purpose of the public scoping process is to determine relevant issues that will influence the scope of the environmental analysis, including alternatives, and guide the process for developing the Draft EIS/EIR. At present, the BLM has identified the following preliminary issues: air quality and greenhouse gas emissions, biological resources including special status species, cultural resources, geology and soils, hazards and hazardous materials, hydrology and water quality, land use, noise, recreation, traffic, visual resources, lands with wilderness characteristics, cumulative effects, and areas with high potential for renewable energy development.

Pursuant to the BLM's CDCA Plan, sites associated with power generation or transmission not identified in the CDCA Plan will be considered through the plan amendment process to determine the suitability of the site for renewable energy development. Since the proposed MSEP site was not previously identified as suitable, authorization of the MSEP would require amendment of the CDCA Plan. By this notice, the BLM is complying with requirements in 43 CFR 1610.2(c) to notify the public of potential amendments to CDCA Plan predicated on the findings in the EIS/EIR. If a land use plan amendment is necessary, the BLM will integrate the land use planning process with the NEPA process for the MSEP. A preliminary list of the potential planning criteria that will be used to help guide and define the scope of the plan amendment process include:

1. The plan amendments will be completed in compliance with the FLPMA, NEPA, and all other relevant Federal laws, executive orders, and BLM policies;

2. Existing, valid plan decisions will not be changed and any new plan decisions will not conflict with existing plan decisions; and

3. The plan amendment(s) will recognize valid existing rights.

The BLM will use and coordinate the NEPA public participation requirements to assist the agency in satisfying the public involvement requirements under Section 106 of the National Historic Preservation Act (NHPA) (16 U.S.C. 470(f)) as provided for in 36 CFR 800.2(d)(3). The information about historic and cultural resources within the area potentially affected by the proposed MSEP and the potential CDCA Plan amendment will assist the BLM in identifying and evaluating impacts to such resources in the context of both NEPA and Section 106 of the NHPA. The BLM will consult with Indian tribes on a government-to-government basis in accordance with Executive Order 13575 and other policies. Tribal concerns, including impacts on Indian trust assets and potential impacts to cultural resources, will be given due consideration. Federal, State, and local agencies, along with tribes and other stakeholders that may be interested in or affected by the BLM's decision on the MSEP, are invited to participate in the scoping process and, if eligible, may request or be requested by the BLM to participate in the development of the environmental analysis as a cooperating agency.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7, 43 CFR 1610.2, 2091.3-1(e), and 2804.25(e).

Thomas Pogacnik,
Deputy State Director, California.

[FR Doc. 2011-21969 Filed 8-26-11; 8:45 am]

BILLING CODE 4310-40-P